DEPARTMENT OF TRANSPORTATION

Federal Aviation Administration

14 CFR Part 73

[Docket No. FAA-2014-0640; Airspace Docket No. 14-ACE-4]

RIN 2120-AA66

Modification of Restricted Areas R-4501A, R-4501B, R-4501C, R-4501D, R-4501F, and R-4501H; Fort Leonard Wood, MO

AGENCY: Federal Aviation Administration (FAA), DOT.

ACTION: Final rule; correction.

SUMMARY: This action corrects a final rule published in the Federal Register on May 26, 2015 by adding one set of geographic latitude/longitude coordinates that was inadvertently omitted from the restricted area R-4501H boundary description.

DATES: Effective date 0901 UTC, August 20, 2015.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

A final rule was published in the Federal Register on May 26, 2015 (80 FR 29941), that established a single ceiling of one restricted area (R-4501B), added exclusions to three restricted areas (R-4501C, R-4501F, and R-4501H) to prevent overlapped restricted areas being active at the same time, made administrative changes to the title of two restricted areas (R-4501A and R-4501B), and made administrative changes to the using agency information of six restricted areas (R-4501A-D, R-4501F, and R-4501H) in Fort Leonard Wood, MO. Subsequent to publication, the FAA determined that one set of geographic latitude/longitude coordinates was inadvertently omitted from the R-4501H boundary description. This correction inserts the set of geographic latitude/longitude coordinates back into the R-4501H boundary description to retain the lateral boundary of the restricted area as it existed prior to the published final rule.

Correction to Final Rule

Accordingly, pursuant to the authority delegated to me, in Docket No. FAA-2014-0640, the boundary description for restricted area R-4501H, as published in the Federal Register on May 26, 2015 (80 FR 29941), FR Doc. 2015-12627, modifying the restricted areas at Fort Leonard Wood, MO, is corrected as follows:

§ 73.45 (Amended)

On page 29942, column 2, line 57, after the words “Reservation boundary;” insert “to lat. 37°46′45″ N., long. 92°01′41″ W.;”.

Issued in Washington, DC, on July 16, 2015.
Gary A. Norek,
Manager, Airspace Policy and Regulations Group.

[FR Doc. 2015-18012 Filed 7-22-15; 8:45 am]

BILLING CODE 4910-13-P